DEPARTMENT OF COMMERCE

National Oceanic and Atmospheric Administration

Proposed Information Collection; Comment Request; American Fisheries Act (AFA): Permits

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 13, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patsy A. Bearden, (907) 586-7008 or Patsy.Bearden@noaa.gov.

SUPPLEMENTARY INFORMATION:

I. Abstract

This request is for extension of a currently approved information collection.

In response to the American Fisheries Act (AFA), NMFS developed a management program for Bering Sea and Aleutian Islands Management Area (BSAI) pollock to include a set of AFA permanent permits for AFA catcher/processors, AFA catcher vessels, AFA inshore processors, and AFA motherships. All vessels and processors participating in the non-Community Development Quota (CDQ) BSAI pollock fishery are required to have valid AFA permits on board the vessel or on site at the processing plant.

With the exceptions of the inshore vessel cooperatives, replacement vessel, and inshore vessel contract fishing applications, the AFA permit program had a one-time application deadline of December 1, 2000. All permitted participants in the AFA pollock fishery are already established and are issued with an indefinite expiration date.

This information collection was previously revised to include a new program, the Chinook Salmon Prohibited Species Catch Program (Chinook PSC Program). The Chinook PSC Program was established to promote reduction of Chinook salmon PSC in the Bering Sea pollock fishery to the extent practicable while achieving optimum yield in the pollock fishery. A PSC limit of Chinook salmon was established for the pollock industry participants in an industry-developed contractual arrangement, called an incentive plan agreement (IPA) that establishes an incentive program to minimize bycatch at all levels of Chinook salmon abundance. NMFS issues transferable Chinook salmon PSC allocations to eligible entities representing the catcher/processor sector, the mothership sector, inshore cooperatives, and Community Development Quota (CDQ) groups. Transferable allocations provide the pollock fleet the flexibility to maximize the harvest of pollock while maintaining Chinook salmon bycatch at or below the PSC limit.

It is also proposed that the title of this collection will be changed from American Fisheries Act: Vessel and Processor Permit Applications to American Fisheries Act (AFA): Permits.

II. Method of Collection

Respondents have a choice of either electronic or paper forms. Methods of submittal include online data entry, email of electronic forms, and mail and facsimile transmission of paper forms.

III. Data

OMB Control Number: 0648-0393.

Form Number: None.

Type of Review: Regular submission (extension of a currently approved collection).

Affected Public: Business or other for-profit organizations.

Estimated Number of Respondents: 61.

Estimated Time per Response: Application for Approval as an Entity Eligible to Receive Transferable Chinook Salmon PSC Allocations, 8 hours; Application for Transfer of Bering Sea Chinook Salmon PSC Allocation, 8 hours; Application for Incentive Plan Agreement (IPA) and List of IPA participants, 30 minutes; Application for AFA Permit for Replacement Vessel, 1 hour; Application for AFA Inshore Catcher Vessel Cooperative Permit, 2 hours; and Contract Fishing by Non-Member Vessels, 4 hours.

Estimated Total Annual Burden Hours: 181.

Estimated Total Annual Cost to Public: $124 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 6, 2013.
Gwellnar Banks,
Management Analyst, Office of the Chief Information Officer.

[FR Doc. 2013-05564 Filed 3-11-13; 8:45 am]

BILLING CODE 3510-22-P